DEPARTMENT OF HEALTH AND HUMAN SERVICES

Centers for Medicare and Medicaid Services

[Document Identifier: CMS-10065]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection; Title of Information Collection: Making Good Choices Survey; Form No.: CMS-10065 (OMB# 0938-NEW); Use This is a request for clearance for a survey “Making Good Choices about Medicare Health Plan Survey”. As part of the continuous quality improvement effort for the National Medicare Education Program (NMEP), this survey will be used to assess the impact of new educational materials developed for individuals who are turning 65 and entering the Medicare program. The measures and educational materials are based on the Transtheoretical Model of Change (TTM, the “stage model”), which has been applied and proven effective in facilitating behavior change in a wide range of health behaviors including smoking cessation, exercise acquisition and mammography screening. The materials are designed to increase new enrollees' readiness to compare their health plan options and make an informed choice. The use of an investigational design in the present study (one group will receive the materials, another will not) will allow CMS to determine whether the materials increase readiness to make an informed choice, self-efficacy, knowledge about the Medicare program, information seeking, and satisfaction with health plan choice. It will assist CMS with its national educational campaign to inform beneficiaries about their health plan choices. Frequency: Once with follow-up; Affected Public: Individuals or Households; Number of Respondents: 1350; Total Annual Responses: 1350; Total Annual Hours: 1012.5 hours.

To obtain copies of the supporting statement and any related forms for the proposed paperwork collections referenced above, access CMS Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: August 6, 2002.
John P. Burke, III,
Paperwork Reduction Act Team Leader, CMS Reports Clearance Officer, Office of Strategic Operations and Regulatory Affairs, Division of Regulations Development and Issuances.

[FR Doc. 02-20857 Filed 8-15-02; 8:45 am]

BILLING CODE 4120-03-P